SOCIAL SECURITY ADMINISTRATION

[Docket No: SSA-2017-0061]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0061].

I. The information collections below are pending at SSA. SSA will submit them to OMB within 60 days from the date of this notice. To be sure we consider your comments, we must receive them no later than January 8, 2018. Individuals can obtain copies of the collection instruments by writing to the above email address.

1. Application for Mother's or Father's Insurance Benefits—20 CFR 404.339-404.342, 20 CFR 404.601-404.603—0960-0003. Section 202(g) of the Social Security Act (Act) provides for the payment of monthly benefits to the widow or widower of an insured individual if the surviving spouse is caring for the deceased worker's child (who is entitled to Social Security benefits). SSA uses the information on Form SSA-5-BK to determine an individual's eligibility for mother's or father's insurance benefits. The respondents are individuals caring for a child of the deceased worker who is applying for mother's or father's insurance benefits under the Old Age, Survivors, and Disability Insurance program.

Type of Request: Revision of an OMB-approved information collection.

Modality of completion | Number of respondents | Frequency of response | Average burden per response (minutes) | Estimated total annual burden (hours)
SSA-5-F6 (paper) | 6,542 | 1 | 15 | 1,636
Modernized Claims System | 42,175 | 1 | 15 | 10,544
Totals | 48,717 |  |  | 12,180

2. Letter to Employer Requesting Wage Information—0960-0138. SSA must establish and verify wage information for Supplemental Security Income (SSI) applicants and recipients when determining SSI eligibility and payment amounts. SSA collects wage data from employers on Form SSA-L4201 to determine eligibility and proper payment amounts for SSI applicants and recipients. The respondents are employers of SSI applicants and recipients.

Type of Request: Revision of an OMB-approved information collection.

Modality of completion | Number of respondents | Frequency of response | Average burden per response (minutes) | Estimated total annual burden (hours)
SSA-L4201 | 133,000 | 1 | 30 | 66,500

3. Modified Benefit Formula Questionnaire—Foreign Pension—0960-0561. SSA uses Form SSA-308 to determine exactly how much (if any) of a foreign pension we can use to reduce the amount of Title II Social Security retirement or disability benefits under the modified benefit formula. In addition, SSA has agreed to pay the full amount of all reductions or refund the full amount of all sums that SSA made to, or collected from, the Class member's of Social Security old age, survivors, and disability insurance benefits payments (OASDI Benefits), due to the application of the Windfall Elimination Provision to those OASDI Benefits based on the receipt of Old Age Benefits from the National Institute of Israel, per the Greenberg, et al. v. Colvin case settlement. The respondents are applicants for Title II Social Security retirement or disability benefits who have foreign pensions.

Type of Request: Revision of an OMB-approved information collection.

Modality of completion | Number of respondents | Frequency of response | Average burden per response (minutes) | Estimated total annual burden (hours)
SSA-308 | 4,430 | 1 | 10 | 738
Greenberg Cases | 363 | 1 | 60 | 363
Totals | 4,793 |  |  | 1,101

II. SSA submitted the information collections below to OMB for clearance. Your comments regarding these information collections would be most useful if OMB and SSA receive them 30 days from the date of this publication. To be sure we consider your comments, we must receive them no later than December 11, 2017. Individuals can obtain copies of the OMB clearance packages by writing to OR.Reports.Clearance@ssa.gov.

1. Application to Collect a Fee for Payee Service—20 CFR 404.2040a & 20 CFR 416.640a—0960-0719. Sections 205(j)(4)(A) and (B) and 1631(a)(2) of the Act allow SSA to authorize certain organizational representative payees to collect a fee for providing payee services. Before an organization may collect this fee, they complete and submit Form SSA-445. SSA uses the information to determine whether to authorize or deny permission to collect fees for payee services. The respondents are private sector businesses or State and local government offices applying to become fee-for-service organizational representative payees.

Type of Request: Revision of an OMB-approved information collection.

Modality of completion | Number of respondents | Frequency of response | Average burden per response (minutes) | Estimated total annual burden (hours)
Private sector business | 90 | 1 | 10 | 15
State/local government offices | 10 | 1 | 10 | 2
Totals | 100 |  |  | 17

2. Redetermination of Eligibility for Help with Medicare Prescription Drug Plan Costs—20 CFR 418.3125—0960-0723. As per the requirements of the Medicare Modernization Act of 2003, SSA conducts low-income subsidy eligibility redeterminations for Medicare beneficiaries who currently receive the Medicare Part D subsidy and who meet certain criteria. Respondents complete Form SSA-1026-REDE under the following circumstances: (1) When individuals became entitled to the Medicare Part D subsidy during the past 12 months; (2) if they were eligible for the Part D subsidy for more than 12 months; or (3) if they reported a change in income, resources, or household size. Part D beneficiaries complete the SSA-1026-SCE when they need to report a potentially subsidy-changing event, including the following: (1) Marriage; (2) spousal separation; (3) divorce; (4) annulment of a marriage; (5) spousal death; or (6) moving back in with one's spouse following a separation. The respondents are current recipients of the Medicare Part D low-income subsidy who will undergo an eligibility redetermination for one of the reasons mentioned above.

Type of Request: Revision of an OMB-approved information collection.

Modality of completion | Number of respondents | Frequency of response | Average burden per response (minutes) | Estimated total annual burden (hours)
SSA-1026-REDE | 98,990 | 1 | 18 | 29,697
SSA-1026-SCE | 4,267 | 1 | 18 | 1,280
REDE Field Office Interview | 50,529 | 1 | 18 | 15,159
SCE Field Office Interview | 3,468 | 1 | 18 | 1,040
Total | 157,254 |  |  | 47,176

Dated: November 6, 2017.
Naomi R. Sipple,
Reports Clearance Officer, Social Security Administration.

[FR Doc. 2017-24387 Filed 11-8-17; 8:45 am]

BILLING CODE 4191-02-P